DEPARTMENT OF THE INTERIOR

Bureau of Land Management

[BLM_AZ_FRN; AZAZ105869032]

Notice of Application for Withdrawal and Opportunity for Public Meeting; John R. Fox Range, Fort Huachuca, Arizona

AGENCY: Bureau of Land Management, Interior.

ACTION: Notice.

SUMMARY: The United States Army (Army) has filed an application with the Bureau of Land Management (BLM) requesting that the Secretary of the Interior (Secretary) withdraw 1,840 acres of Federal subsurface estate lands from location and entry under the United States mining laws, and from leasing under the mineral and geothermal leasing laws, but not from disposal under the Mineral Materials Act of 1947, subject to valid existing rights, for a 20-year period. Additionally, the Army requests that the Secretary withdraw 53.48 acres of non-Federal lands, upon Federal acquisition, from all forms of appropriation under the public land laws, including the United States mining laws and mineral leasing laws, and reserved for use by the Army for military purposes (except as indicated in Public Land Order No. 1471), subject to valid existing rights, for an indefinite period. The purpose of the withdrawal requested is to protect the John R. Fox Range, located on Fort Huachuca, Arizona, from potential adverse impacts from mining. Publication of this notice temporarily segregates the lands for up to two years, initiates a 90-day public comment period, and announces to the public an opportunity to request a public meeting on the Army's withdrawal application.

DATES: Comments must be received by March 10, 2025.

ADDRESSES: All comments or requests for a public meeting should be sent to the BLM Arizona State Office, 1 North Central Avenue, Suite 800, Phoenix, AZ 85004; or sent by email to BLM_AZ_Withdrawal_Comments@blm.gov. The BLM will not consider comments via telephone calls.

FOR FURTHER INFORMATION CONTACT: Michael Ouellett, Realty Specialist, BLM Arizona State Office, telephone (602) 417-9561, email at mouellett@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The Army requests this withdrawal to protect the military training and testing mission at Fort Huachuca's John R. Fox Range. This request is for a new 20-year withdrawal encompassing 1,840 acres of Army lands previously withdrawn by Public Land Order (PLO) No. 6788 (expired August 8, 2010). The Army has also identified an additional 53.48 acres (both the surface and subsurface estate) of non-Federal lands within the John R. Fox Range that the Army is requesting be withdrawn, upon Federal acquisition, and reserved for use by the Department of the Army for military purposes (except as indicated in PLO No. 1471), subject to valid existing rights, for an indefinite period or for such period as the Secretary of the Interior deems appropriate.

The Secretary of the Interior has been authorized by Congress to acquire these 53.48 acres as part of a larger tract of State of Arizona owned lands under section 2872(a) of Public Law (Pub. L.) 106-65. The Secretary of the Interior is also authorized under section 2872(g) of Public Law 106-65 to withdraw and reserve these lands after acquisition for the use of the Army “for military training and testing in the same manner as other Federal lands located in the Fort Huachuca East Range (now John R. Fox Range) that were withdrawn and reserved for Army use through Public Land Order 1471 of 1957.” As PLO No. 1471 established an indefinite withdrawal, the Army is requesting these additional 53.48 acres for indefinite withdrawal, as well.

The following described Army lands are the subject of the Army's withdrawal application and are temporarily segregated for a period of up to two years from location and entry under the U.S. mining laws, from leasing under the mineral leasing laws or geothermal leasing laws but not from disposal under the Mineral Materials Act of 1947, subject to valid existing rights:

(Federal Subsurface Estate)

Gila and Salt River Meridian, Arizona

T. 20 S., R. 20 E.,

sec. 33, S1/2SE1/4;

sec. 34, S1/2NW1/4 and SE1/4.

T. 21 S., R. 20 E.,

sec. 10, SE1/4;

sec. 11, NE1/4;

sec. 13, SE1/4;

sec. 15, NE1/4;

sec. 24, NE1/4.

T. 20 S., R. 21 E.,

sec. 19, SE1/4;

sec. 31, NE1/4, E1/2NW1/4, and S1/2.

The areas described aggregate 1,840 acres.

Additionally, the Army is requesting the following described lands be withdrawn, upon Federal acquisition, from all forms of appropriation under the public land laws, including the United States mining laws and mineral leasing laws, and reserved for use by the Army for military purposes (except as indicated in PLO No. 1471), subject to valid existing rights, for an indefinite period or for such period as the Secretary of the Interior deems appropriate:

(Surface and Subsurface Estate—Lands Withdrawn Upon Federal Acquisition)

Gila and Salt River Meridian, Arizona

T. 21 S., R. 20 E.,

sec. 4, lot 1.

The area described contains 53.48 acres.

The use of a right-of-way, interagency agreement, or cooperative agreement would not provide adequate protection of the specified lands.

No additional water rights are needed to fulfill the purpose of this requested withdrawal.

There are no suitable alternative sites since the requested withdrawal area is within the John R. Fox Range.

Before including your address, phone number, email address, or other personal identifying information in your comment, you should be aware that your entire comment, including your personal identifying information, may be made publicly available at any time. While you can ask us in your comment to withhold your personal identifying information from public review, we cannot guarantee that we will be able to do so.

For a period of two years from the date of publication in the Federal Register, the lands will be segregated as specified above unless the application is denied or canceled.

This application will be processed in accordance with the regulations at 43 CFR 2300.

Authority:

43 U.S.C. 1714(b)(1) and 43 CFR 2310.3-1 and Public Law 106-65.

Gera Ashton,
Acting State Director, Arizona State Office.

[FR Doc. 2024-28938 Filed 12-9-24; 8:45 am]

BILLING CODE 3711-02-P